DEPARTMENT OF DEFENSE

Department of the Air Force

[Docket ID: USAF-2023-HQ-0010]

Submission for OMB Review; Comment Request

AGENCY: Department of the Air Force, Department of Defense (DoD).

ACTION: 30-Day information collection notice.

SUMMARY: The DoD has submitted to the Office of Management and Budget (OMB) for clearance the following proposal for collection of information under the provisions of the Paperwork Reduction Act.

DATES: Consideration will be given to all comments received by September 16, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Air Force JROTC Instructor Application; OMB Control Number 0701-AFJR.

Type of Request: Existing collection currently in use without an OMB Control Number.

Number of Respondents: 500.

Responses per Respondent: 1.

Annual Responses: 500.

Average Burden per Response: 1.5 hours.

Annual Burden Hours: 750.

Needs and Uses: Air Force Junior Reserve Officer's Training Corps (AFJROTC) collects instructor application data from qualified United States Air Force veterans and retired Air Force personnel who are interested in becoming an AFJROTC Instructor at a high school. Prospective Instructors are directed to the Air University website where they will find helpful information needed during the application process, including the Process Overview, Vacancy Listings, Pay Information, as well as a link to start their Instructor Application. Completed applications are reviewed and evaluated by the Headquarters AFJROTC Instructor Management Division to verify qualifications. After review, an approval or disapproval letter is sent to the applicant. Fully approved applicants are then referred to the schools of their preference for consideration for an AFJROTC Instructor vacancy. Eligibility for membership cannot be determined if this information is not collected.

Affected Public: Individuals or households.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: August 12, 2024.
Patricia L. Toppings,
OSD Federal Register Liaison Officer, Department of Defense.

[FR Doc. 2024-18360 Filed 8-15-24; 8:45 am]

BILLING CODE 6001-FR-P